OFFICE OF THE UNITED STATES TRADE REPRESENTATIVE

Determination of Effective Date of U.S.-Vietnam Bilateral Trade Agreement

AGENCY: Office of the United States Trade Representatives.

ACTION: Notice.

SUMMARY: The United States Trade Representative (“the USTR”) has determined that the effective date of the “Agreement between the United States and the Socialist Republic of Vietnam on Trade Relations” (“the Agreement”), and, the grant of nondiscriminatory tariff treatment to the products of Vietnam is December 10, 2001. This determination is made pursuant to the terms of the Agreement and as required in Presidential proclamation 7449 (66 FR 31375).

FOR FURTHER INFORMATION CONTACT: Elena Bryan, Director for India and Indochina Affairs, Office of the United States Trade Representative, (202) 395-6813.

SUPPLEMENTARY INFORMATION: On July 13, 2000, the United States and Vietnam concluded the Agreement in accordance with the requirements of the Trade Act of 1974, as amended (19 U.S.C. 2431 et seq.) (“the Trade Act”). Section 405(c) of the Trade Act (19 U.S.C. 2435(c)) provides that a bilateral commercial agreement providing nondiscriminatory treatment to the products of a country denied such treatment prior to the date of enactment of the Trade Act, and a proclamation implementing such agreement, shall take effect only if a joint resolution described in section 151(b)(3) of the Trade Act (19 U.S.C. 2191(b)(3)) that approves of the Agreement is enacted into law.

President Bush signed Proclamation 7449 on June 8, 2001, and transmitted the Agreement to Congress on that date for its approval. In the proclamation, the President directed the USTR to publish notice of the effective date of the Agreement. Congress approved the Agreement on October 3, 2001 and the President signed the legislation approving the Agreement on October 16, 2001. The National Assembly of Vietnam approved the resolution ratifying the Agreement on November 28, 2001 and the President of Vietnam signed the legislation on December 4, 2001.

Chapter VII, Article 8:1 of the Agreement provides that it shall enter into force on the date of exchange of written notices of acceptance by the two Governments. On December 10, 2001, Ambassador Robert B. Zoellick, the United States Trade Representative and Vu Khoan, Minister of Trade of the Socialist Republic of Vietnam, exchanged written notices of acceptance, thus implementing the Agreement. Thus, in accordance with the terms of the Agreement, the effective date of nondiscriminatory treatment for products of Vietnam is December 10, 2001.

Robert B. Zoellick,
United States Trade Representative.

[FR Doc. 01-30961 Filed 12-14-01; 8:45 am]

BILLING CODE 3190-01-P